DEPARTMENT OF TRANSPORTATION

National Highway Traffic Safety Administration

Denial of Motor Vehicle Defect Petition

AGENCY: National Highway Traffic Safety Administration (NHTSA), Department of Transportation.

ACTION: Denial of petition for a defect investigation.

SUMMARY: This notice sets forth the reasons for the denial of a petition submitted by Mr. Ronald Strickland to NHTSA's Office of Defects Investigation (ODI), received on June 24, 2005, under 49 U.S.C. 30162, requesting that the agency commence a proceeding to determine the existence of a defect related to motor vehicle safety with respect to the performance of the ignition coil plugs on model year (MY) 2000-2003 Volkswagen (VW) Jetta, Golf and Passat sedans with 4, 6, or 8 cylinder engines. After a review of the petition and other information, NHTSA has concluded that further expenditure of the agency's investigative resources on the issues raised by the petition does not appear to be warranted. The agency accordingly has denied the petition. The petition is hereinafter identified as DP05-004.

FOR FURTHER INFORMATION CONTACT: Mr. Gregory Magno, Defects Assessment Division, Office of Defects Investigation, NHTSA, 400 Seventh Street, SW., Washington, DC 20590.

SUPPLEMENTARY INFORMATION: By letter received on June 24, 2005, Mr. Ronald M. Strickland of Raleigh, NC, submitted a petition requesting that the agency investigate the performance of the ignition coils on model year (MY) 2000-2003 Volkswagen Jetta, Golf and Passat sedans.

The petitioner alleges that he had experienced multiple stalling events as a result of one or more ignition coils malfunctioning on his 2002 VW Jetta. As a result of the engine stalling, the petitioner reported a loss of power steering and the need for increased braking effort when he pulled the vehicle over to the side of the road. After a few minutes parked on the shoulder, he was able to restart and drive the vehicle, although the engine operated at reduced power.

VW issued a Customer Satisfaction Campaign (CSC) on January 31, 2003, instructing their dealerships to inspect 2001-2002 VW vehicles for malfunctioning ignition coils. Pre-campaign letters were sent to owners in February 2003. Any such coils were to be replaced at no cost to the vehicle owner. In May 2003, VW issued a dealer circular, which addressed their need to notify consumers as replacement ignition coils became available. Consumers were notified to bring their vehicles to their dealerships via owner letters mailed out on June 6, 2003. In September 2003, additional notification targeting 2002-2003 VW Golf GTI and Jetta 6-cylinder models was mailed to those owners. In November 2003, reminder notifications were mailed to owners who have not had the campaign repairs done.

Initially, VW instructed the dealerships to replace only the malfunctioning ignition coil. However, revised CSCs were issued to dealerships in December 2003 and January 2004, instructing dealerships to replace all ignition coils regardless of their performance and to include wiring harness modifications needed to perform the campaign on specific MY 2002-2003 Jetta vehicles.

To date, ODI has received a total of 516 consumer complaints (including one from the petitioner) about the ignition coil performance in MY 2000 to 2003 VW vehicles. ODI analyzed the material and identified 133 complaints (25.7% of the total) that experienced the same stall event as the petitioner. The remaining reports voiced concerns regarding the engine drivability issues (i.e., reduced engine power, hesitation and surging), none of which involved a crash, injury, or fatality.

Three of the complainants indicated to ODI that their malfunctioning ignition coils overheated but caused no additional vehicle damage. A fourth consumer reported an engine fire from a failed coil and was able to extinguish the flames, which were localized to the top of the engine intake manifold without further incident.

Within the last 12 months ODI has received only 17 complaints regarding either stalling or drivability issues with these ignition coils. Within the last two years ODI has received only 38 complaints. After the first CSC was sent to dealerships on January 31, 2003, by VW, the number of complaints regarding this issue has rapidly declined. (Figure 1)

Although the concerns of the petitioner could theoretically lead to a safety problem, two years of real-world data shows very little risk due to the fact that in the majority of events the engine continues to operate at a reduced power level. The absence of reported real-world crash experience is consistent with the minimal consequence on the vehicle control systems associated with ignition coil failure. This is largely due to the fact that the failure happens on an individual coil and there is no trend of multiple and simultaneous coil failures that would tend to drive up the rate of reported stalling events. Should the vehicle stall, the power brake system will maintain a reserve of two or more brake pedal applications before reverting to a manual braking application mode. Any loss of power steering assist will increase steering effort at low speeds but at highway speeds the increase in steering effort will be minimal to none. Once the vehicle operator becomes aware of the problem (by experiencing a loss of power due to one of the ignition coils malfunctioning), he or she is able to take precautionary and compensatory measures and still maintain control of the vehicle.

In sum, VW's service campaign seems to be effectively alleviating the problem the petitioner has raised; the frequency of the alleged defect has declined considerably; and the alleged defect does not, based on current evidence, seem likely to lead to a significant safety problem. In view of the foregoing, it is unlikely that the NHTSA would issue an order for the notification and remedy of the alleged defect as defined by the petitioner at the conclusion of the investigation requested in the petition. Therefore, in view of the need to allocate and prioritize the NHTSA's limited resources to best accomplish the agency's safety mission, the petition is denied.

Authority: 49 U.S.C. 30162(d); delegations of authority at CFR 1.50 and 501.8.

Issued on: December 2, 2005.
Daniel Smith,
Associate Administrator for Enforcement.

[FR Doc. 05-23765 Filed 12-7-05; 8:45 am]

BILLING CODE 4910-59-P